NUCLEAR REGULATORY COMMISSION

Leakage from Reactor Pressure Vessel Lower Head Penetrations and Reactor Coolant Pressure Boundary Integrity

AGENCY: Nuclear Regulatory Commission.

ACTION: Notice of issuance.

SUMMARY: The Nuclear Regulatory Commission (NRC) has issued NRC Bulletin 2003-02 to all holders of operating licenses for pressurized-water nuclear power reactors (PWRs) with penetrations in the lower head of the reactor pressure vessel, (RPV) except those who have permanently ceased operations and have certified that fuel has been permanently removed from the RPV. The NRC issued this bulletin to (1) advise PWR addressees that current methods of inspecting the RPV lower heads may need to be supplemented with additional measures (e.g., bare-metal visual inspections) in order to detect reactor coolant pressure boundary (RCPB) leakage, (2) request PWR addressees to provide the NRC with information related to inspections that have been or will be performed to verify the integrity of the RPV lower head penetrations, and (3) require PWR addressees to provide a written response to the NRC in accordance with the provisions of Section 50.54(f) of Title 10 of the Code of Federal Regulations (10 CFR 50.54(f)).

DATES: The bulletin was issued on August 21, 2003.

ADDRESSEES: Not applicable.

FOR FURTHER INFORMATION CONTACT: Edmund Sullivan at 301-415-2796, e-mail ejs@nrc.gov or Stephen Monarque at 415-1544, e-mail: srm2@nrc.gov.

SUPPLEMENTARY INFORMATION: NRC Bulletin 2003-02 may be examined and/or copied for a fee at the NRC's Public Document Room, located at One White Flint North, 11555 Rockville Pike (first floor), Rockville, Maryland, and is accessible electronically from the Agencywide Documents Access and Management Systems (ADAMS) Public Electronic Reading Room on the Internet at the NRC Web site, http://www.nrc.gov/reading-rm/adams.html. The ADAMS Accession No. for the bulletin is ML032320153.

If you do not have access to ADAMS or if there are problems in accessing documents located in ADAMS, contact the NRC Public Document Room (PDR) Reference staff at 301-415-4737 or 1-800-397-4209, or by e-mail to pdr@nrc.gov.

Dated at Rockville, Maryland, this 11th day of December 2003.
For the Nuclear Regulatory Commission.
William Beckner,
Chief, Reactor Operations Branch, Division of Inspection Program Management, Office of Nuclear Reactor Regulation.

[FR Doc. 03-31313 Filed 12-18-03; 8:45 am]

BILLING CODE 7590-01-P